SMALL BUSINESS ADMINISTRATION

Data Collection Available for Public Comments

ACTION: 60-day notice and request for comments.

SUMMARY: The Small Business Administration (SBA) intends to request approval from the Office of Management and Budget (OMB) for the collection of information described below. The Paperwork Reduction Act (PRA) of 1995, 44 U.S.C. chapter 35 requires federal agencies to publish a notice in the Federal Register concerning each proposed collection of information before submission to OMB, and to allow 60 days for public comment in response to the notice. This notice complies with that requirement.

DATES: Submit comments on or before June 30, 2015.

ADDRESSES: Send all comments to Erin Kelley, Director of Research & Policy, National Women's Business Council, Small Business Administration, 5th Floor, Washington, DC 20416 or via email at erin.kelley@nwbc.gov.

FOR FURTHER INFORMATION CONTACT: Erin Kelley, Director of Research & Policy, National Women's Business Council, 202 205-6826, erin.kelley@nwbc.gov, or Curtis B. Rich, Management Analyst, 202-205-7030, curtis.rich@sba.gov

SUPPLEMENTARY INFORMATION: The National Women's Business Council (NWBC) is a non-partisan federal advisory council that serves as an independent source of advice and counsel to the President, Congress, and the Small Business Administration on economic issues of importance to women business owners. Members of the Council are prominent women business owners and leaders of women' business organizations.

As part of NWBC's outreach and engagement with women business owners, NWBC would like to collect information on three populations: Attendees of public meetings; successful women business owners; and attendees of research webinars.

For the public meeting data collection, the goal is to understand the demographics of the NWBC audience and their reasons for engaging with the NWBC, in order to best cater the material and programming for that specific audience, and produce meaningful and relevant content for future programming. The NWBC also intends to stay in contact with this audience, as they are important stakeholders. The information collected from this audience will enable us to achieve this goal.

For the research webinars, the goal is to do market research and understand the marketplace of researchers that may bid on NWBC research contracting opportunities, in order to cultivate the marketplace with the intention of increasing the quality of NWBC research. The NWBC also intends to stay in contact with this audience, as they are important stakeholders. The information collected from this audience will enable us to achieve this goal.

For the successful women business owners segment, the goal of this project is to collect and amplify success stories in order to raise the visibility of women business owners. This goal is in accordance with an NWBC recommendation, which reads as follows:

There should be greater and regular recognition of successful women in business. Research has shown that role models are an important factor in an individual's decision to pursue entrepreneurship. Media attention tends to focus on men entrepreneurs; increasing the visibility and profile of successful women entrepreneurs will normalize the idea of women founding and leading companies.

The information collected from this audience will enable us to achieve this goal and also take action on one of our own recommendations.

The surveys will consist of three separate questionnaires targeting attendees of NWBC events, attendees of research webinars, and women business owners. Each questionnaire will take between 5 and 20 minutes to complete (see below for the estimated burden analysis of each questionnaire). The survey questions will explore a range of issues, including:

• Public Meeting Attendees: Demographics, geography, contact information, type of employment (federal employee, press, researcher, business owner).

• Research Webinar Attendees: Demographic information, subject matter expertise, company/organization information, hot topics in the attendees' fields of expertise.

• Women Business Owners: Demographics information, business information, contact information, questions on motivation, attitude, success, and overcoming challenges.

The data from the survey will be used to cultivate an audience and understand their needs so as to make more relevant policy recommendations; inform outreach strategy to potential vendors of NWBC research; and increase the visibility of successful women business owners and inspire others.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: NWBC Public Meeting Registration.

Description of Respondents: Attendees of NWBC events; attendees of research webinars; subjects of role modeling profiles.

Form Number: N/A.

Total Estimated Annual Responses: 800 (600 from NWBC events; 100 from role modeling project; and 100 from research webinar attendees).

Total Estimated Annual Hour Burden: 90 hours total.

| Event attendees: NWBC | Event attendees: Research | Success stories | Total (hours)
Estimated survey hour burden | 5 minutes | 5 minutes | 20 minutes
Sample population hour burden estimate | 50 hours | 6.25 hours | 33.33 hours | 90

Curtis B. Rich,
Management Analyst.

[FR Doc. 2015-10258 Filed 4-30-15; 8:45 am]

BILLING CODE 8025-01-P